DEPARTMENT OF HEALTH AND HUMAN SERVICES

National Institutes of Health

Prospective Grant of Co-Exclusive Licenses: Multi-Focal Structured Illumination Microscopy Systems and Methods

AGENCY: National Institutes of Health, HHS.

ACTION: Notice.

SUMMARY: This is notice, in accordance with 35 U.S.C. 209(c)(1) and 37 CFR 404.7(a)(1)(i), that the National Institutes of Health (NIH), Department of Health and Human Services, is contemplating the grant of co-exclusive worldwide licenses to practice the inventions embodied in: E-005-2012/0, /1, /2; U.S. Provisional Patent Application 61/602,139 filed February 23, 2012, U.S. Provisional Patent Application 61/732,460 filed December 3, 2012, and International Patent Application PCT/US2013/27413 filed February 22, 2013 to Andor Technology PLC. having a principle place of business in Belfast, Northern Ireland, and to Vutara, Inc. having a principle place of business in Salt Lake City, Utah.

The United States of America is an assignee to the patent rights of these inventions.

The contemplated co-exclusive license may be in a field of use directed to microscopy devices and systems.

DATES: Only written comments and/or applications for a license that are received by the NIH Office of Technology Transfer on or before August 2, 2013 will be considered.

ADDRESSES: Requests for a copy of the patent application, inquiries, comments and other materials relating to the contemplated license should be directed to: Michael Shmilovich, Esq., CLP, Senior Licensing and Patent Manager, Office of Technology Transfer, National Institutes of Health, 6011 Executive Boulevard, Suite 325, Rockville, MD 20852-3804; Telephone: (301) 435-5019; Facsimile: (301) 402-0220; Email: shmilovm@od.nih.gov. A signed confidential disclosure agreement may be required to receive copies of the patent application assuming it has not already been published under either the publication rules of either the U.S. Patent and Trademark Office or World Intellectual Property Organization.

SUPPLEMENTARY INFORMATION: The invention pertains to a system and method for digital confocal microscopy that rapidly processes enhanced images. In particular, the invention is a method for digital confocal microscopy that includes a digital mirror device or a swept-field confocal unit to produce a plurality of excitation foci that are imaged to resulting emissions from a sample mounted on a conventional microscope onto an array detector. Computer software detects each confocal spot and provides two times the image resolution of the diffraction limit. In addition, the software implements an optical sectioning technique using a variable “digital” pinhole for each confocal spot. Since the variable pinhole is digital (e.g., created by the software), there is no loss in image signal due to additional optical arrangements and tightly closed pinholes used in conventional confocal microscopes.

The prospective co-exclusive licenses will be royalty-bearing and comply with the terms and conditions of 35 U.S.C. 209 and 37 CFR 404.7. The prospective co-exclusive license may be granted unless, within 60 days from the date of this published notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: May 28, 2013.
Richard U. Rodriguez,
Director, Division of Technology Development and Transfer, Office of Technology Transfer, National Institutes of Health.

[FR Doc. 2013-12967 Filed 5-31-13; 8:45 am]

BILLING CODE 4140-01-P